DEPARTMENT OF TRANSPORTATION

National Highway Traffic Safety Administration

Petition for Exemption from the Federal Motor Vehicle Theft Prevention Standard; DaimlerChrysler

AGENCY: National Highway traffic Safety Administration (NHTSA), Department of Transportation (DOT)

ACTION: Grant of petition for exemption.

SUMMARY: This document grants in full the DaimlerChrysler Corporation's (DaimlerChrysler) petition for exemption of the Dodge Magnum vehicle line in accordance with 49 CFR Part 543, Exemption from the Theft Prevention Standard. This petition is granted because the agency has determined that the antitheft device to be placed on the line as standard equipment is likely to be as effective in reducing and deterring motor vehicle theft as compliance with the parts-marking requirements of the Theft Prevention Standard (49 CFR Part 541).

DATES: The exemption granted by this notice is effective beginning with the 2008 model year.

FOR FURTHER INFORMATION CONTACT: Ms. Carlita Ballard, Office of International Vehicle, Fuel Economy and Consumer Standards, NHTSA, 400 Seventh Street, SW., Washington, DC 20590. Ms. Ballard's phone number is (202) 366-0846. Her fax number is (202) 493-2290.

SUPPLEMENTARY INFORMATION: In a petition dated June 2, 2006, DaimlerChrysler requested an exemption from the parts-marking requirements of the theft prevention standard (49 CFR Part 541) for the Dodge Magnum vehicle line, beginning with the 2008 model year. The petition has been filed pursuant to 49 CFR Part 543, Exemption from Vehicle Theft Prevention Standard, based on the installation of an antitheft device as standard equipment for an entire vehicle line. DaimlerChrysler's submission is considered a complete petition as required by 49 CFR 543.7, in that it meets the general requirements contained in § 543.5 and the specific content requirements of § 543.6.

Under § 543.5(a), a manufacturer may petition NHTSA to grant exemptions for one line of its vehicle lines per year. In its petition, DaimlerChrysler provided a detailed description and diagram of the identity, design, and location of the components of the antitheft device for the Dodge Magnum vehicle line. DaimlerChrysler stated that all Dodge Magnum vehicles will be equipped with a standard Sentry Key Immobilizer System (SKIS) antitheft device. The SKIS, a transponder-based, passive immobilizer antitheft device will provide vehicle protection by preventing the engine from operating unless a valid electronically encoded key is detected in the ignition lock cylinder. The SKIS consists of a Wireless Ignition Node Module (WIN), a Powertrain Control Module (PCM), and a FOB Integrated Key (FOBIK) which collectively perform the immobilizer function. The immobilizer feature is activated when the key is removed from the ignition switch. Once activated, only a valid key inserted into the ignition switch will disable immobilization and allow the vehicle to start and continue to run.

According to DaimlerChrysler, each new FOBIK is programmed for operation of the Remote Keyless Entry (RKE) system and has a unique transponder identification code that is permanently programmed into it by the manufacturer. The ignition key must be programmed into the WIN module to be recognized by the SKIS as a valid key. The FOBIK transponder cannot be adjusted or repaired. once the FOBIK has been programmed to a particular vehicle, it cannot be used on another vehicle. If it is faulty or damaged, the entire key and RKE transmitter unit must be replaced.

In addressing the specific content requirements of 543.6, DaimlerChrysler provided information on the reliability and durability of its proposed device. To ensure the reliability and durability of the device, DaimlerChrysler conducted tests based on its own specific standards. DaimlerChrysler provided information on the tests conducted and believes that the device is reliable and durable since the device complied with its specified requirements for each test. According to DaimlerChrysler, the device has met stringent performance standards which demonstrated a minimum 95 percent reliability. The SKIS also undergoes daily short-term durability tests and all of the devices undergo a series of three functional tests prior to being shipped from the supplier to the vehicle assembly plant for installation in the vehicles.

DaimlerChrysler also stated that the proposed antitheft device does not provide any visible or audible indication of unauthorized entry.

DaimlerChrysler believes that the immobilizer system proposed for the Dodge Magnum will be at least as effective as compliance with the parts-marking requirements of the theft prevention standard. DaimlerChrysler also stated that its experience with vehicles subject to the parts-marking requirement that are later equipped with ignition immobilizer systems as standard equipment indicate that even lower theft rates can be expected from vehicles initially equipped with standard ignition immobilizer systems as that proposed. It has concluded that the proposed antitheft device is no less effective than those devices installed on lines for which NHTSA has already granted full exemption from the parts-marking requirements.

For comparative purposes, DaimlerChrysler offered the Jeep Grand Cherokee vehicles as an example of vehicles subject to the parts-marking requirements that have been equipped with ignition immobilizer systems as standard equipment. The Jeep Grand Cherokee vehicle line was granted an exemption from the parts-marking requirements beginning with MY 2004 vehicles, however it has had a SKIS system installed as standard equipment since the 1999 model year. DaimlerChrysler stated that NHTSA's theft data for the Jeep Grand Cherokee vehicle line for model years prior to 1999 (MY 1995 through 1998) provides evidence that the average theft rate is significantly higher than the 1990/1991 median theft rate of 3.5826. For clarification purposes, the agency would like to note that it does not collect theft data. NHTSA publishes theft rates based on data provided by the National Crime Information Center (NCIC) of the Federal Bureau of Investigation. NHTSA uses the NCIC data to calculate theft rates and publishes these rates annually in the Federal Register. DaimlerChrysler also indicated that, since the introduction of immobilizer systems as standard equipment on Jeep Grand Cherokee vehicles, the average theft rate for the five model years (MY 1999 through 2003) is significantly lower than the 1990/1991 median theft rate of 3.5826.

Pursuant to 49 U.S.C. 33106 and 49 CFR 543.7(b), the agency grants a petition for an exemption from the parts-marking requirements of part 541 either in whole or in part, if it determines that, based upon substantial evidence, the standard equipment antitheft devices is likely to be as effective in reducing and deterring motor vehicle theft as compliance with the parts-making requirements of part 541. As explained below, the agency finds that DaimlerChrysler has provided adequate reasons for its belief that the antitheft device will reduce and deter theft. This conclusion is based on the information DaimlerChrysler provided and additional investigation by NHTSA about the device for the Dodge Magnum vehicle line.

The agency concludes that the device will provide four of the five types of performance listed in § 543.6(a)(3): Promoting activation; preventing defeat or circumvention of the device by unauthorized persons; preventing operation of the vehicle by unauthorized entrants; and ensuring the reliability and durability of the device. The agency agrees that the device is substantially similar to the device the agency approved for the Jeep Grand Cherokee, which was also a SKIS which did provide a visual or audible indication. As cited by DaimlerChrysler, the average theft rate for the Jeep Grand Cherokee has decreased substantially since the installation of this device as standard equipment. While DaimlerChrysler used a different method of calculating the average theft rates than NHTSA has used in the past, NHTSA agrees that both calculations show a substantial reduction in the theft rate since the installation of the device as standard equipment.

For the foregoing reasons, the agency hereby grants in full DaimlerChrysler's petition for exemption for the Dodge Magnum vehicle line from the parts-marking requirements of 49 CFR Part 541, beginning with the 2008 model year vehicles. The agency notes that 49 CFR Part 541, Appendix A-1, identifies those lines that are exempted from the Theft Prevention Standard for a given model year. 49 CFR Part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If DaimlerChrysler decides not to use the exemption for this line, it must formally notify the agency, and, thereafter, the line must be fully marked as required by 49 CFR Parts 541.5 and 541.6 (marking of major component parts and replacement parts).

NHTSA notes that if DaimlerChrysler wishes in the future to modify the device on which this exemption is based, the company may have to submit a petition to modify the exemption. Part 543.7(d) states that a Part 543 exemption applies only to vehicles that belong to a line exempted under this part and equipped with the antitheft device on which the line's exemption is based. Further, 543.9(c)(2) provides for the submission of petitions “to modify an exemption to permit the use of an antitheft device similar to but differing from the one specified in that exemption.”

The agency wishes to minimize the administrative burden that Part 543.9(c)(2) could place on exempted vehicle manufacturers and itself. The agency did not intend Part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: December 27, 2006.
Stephen R. Kratzke,
Associate Administration for Rulemaking.

[FR Doc. 06-9957 Filed 12-29-06; 8:45 am]

BILLING CODE 4910-59-M